ENVIRONMENTAL PROTECTION AGENCY

[EPA-HQ-2006-0735; FRL-8535-3]

Announcement of Data Availability for Lead National Ambient Air Quality Standard Review

AGENCY: Environmental Protection Agency (EPA).

ACTION: Notice of data availability.

SUMMARY: On or about March 3, 2008, the Office of Air Quality Planning and Standards (OAQPS) of EPA will make available for public review and comment a number of technical documents that discuss monitoring issues being addressed in EPA's review of the national ambient air quality standards (NAAQS) for lead. These technical documents will be used as part of a consultation with the Clean Air Scientific Advisory Committee (CASAC) Ambient Air Monitoring & Methods (AAMM) Subcommittee (Subcommittee).

DATES: Comments on the technical documents must be received on or before March 31, 2008.

ADDRESSES: Submit your comments, identified by Docket ID No. EPA-HQ-OAR-2006-0735, by one of the following methods:

• www.regulations.gov: Follow the on-line instructions for submitting comments.

• E-mail: Comments may be sent by electronic mail (e-mail) to a-and-r-Docket@epa.gov, Attention Docket ID No. EPA-HQ-OAR-2006-0735.

• Fax: Fax your comments to: 202-566-9744, Attention Docket ID. No. EPA-HQ-OAR-2006-0735.

• Mail: Send your comments to: Air and Radiation Docket and Information Center, Environmental Protection Agency, Mail Code: 2822T, 1200 Pennsylvania Ave., NW., Washington, DC 20460, Attention Docket ID No. EPA-HQ-OAR-2006-0735.

• Hand Delivery or Courier: Deliver your comments to: EPA Docket Center, 1301 Constitution Ave., NW., Room 3334, Washington, DC. Such deliveries are only accepted during the Docket(s normal hours of operation, and special arrangements should be made for deliveries of boxed information.

Instructions: Direct your comments to Docket ID No. EPA-HQ-OAR-2006-0735. The EPA's policy is that all comments received will be included in the public docket without change and may be made available online at www.regulations.gov including any personal information provided, unless the comment includes information claimed to be Confidential Business Information (CBI) or other information whose disclosure is restricted by statute. Do not submit information that you consider to be CBI or otherwise protected through www.regulations.gov, or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket in the EPA Docket Center, (EPA/DC) EPA West, Room 3334, 1301 Constitution Ave., NW., Washington, DC.

The Public Reading Room is open from 8:30 a.m. to 4:30 p.m., Monday through Friday, excluding legal holidays. The telephone number for the Public Reading Room is (202) 566-1744 and the telephone number for the Air Docket is (202) 566-1742; fax (202) 566-9744.

FOR FURTHER INFORMATION CONTACT: Mr. Kevin Cavender, Office of Air Quality Planning and Standards (mail code C304-06), U.S. Environmental Protection Agency, Research Triangle Park, NC 27711; e-mail: Cavender.kevin@epa.gov; telephone: (919) 541-2364; fax: (919) 541-1903.

SUPPLEMENTARY INFORMATION:

A. What Should I Consider as I Prepare My Comments for EPA?

1. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

B. Background

Under section 108(a) of the Clean Air Act (CAA), the Administrator identifies and lists certain pollutants which “cause or contribute to air pollution which may reasonably be anticipated to endanger public health or welfare.” The EPA then issues air quality criteria for listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes NAAQS for each listed pollutant, with the NAAQS based on the air quality criteria. Section 109(d) of the CAA requires periodic review and, if appropriate, revision of existing air quality criteria. The revised air quality criteria reflect advances in scientific knowledge on the effects of the pollutant on public health or welfare. The EPA is also required to periodically review and revise the NAAQS, if appropriate, based on the revised criteria.

Lead is one of six criteria pollutants for which EPA has established air quality criteria and NAAQS. Presently, EPA is reviewing the air quality criteria and NAAQS for lead.

As part of its review of the lead NAAQS, EPA is considering revising the associated monitoring requirements (contained in 40 CFR parts 50, 53, and 58). On December 12, 2007, an advanced notice of proposed rulemaking (ANPR) was published (72 FR 71488). The ANPR identified a number of potential revisions to the lead monitoring requirements. CASAC conducted a review of the ANPR in December 2007, and submitted a final letter on January 22, 2008 (EPA-CASAC-08-007) providing CASAC's advice and recommendations to the Agency on the policy options discussed in the ANPR. One of CASAC's recommendations was that a more detailed review of the monitoring issues should be conducted by the CASAC AAMM Subcommittee.

In this notice, EPA is announcing the availability of technical documents that provide useful information regarding a number of issues pertinent to the monitoring requirements for the Pb NAAQS. Specifically, these documents discuss the Pb NAAQS indicator options being considered, specifications and rationale for a Federal Reference Method (FRM) and Federal Equivalency Method (FEM) criteria, potential network design requirements, and potential revisions to the monitoring sampling frequency. The technical documents will be available online at: http://www.epa.gov/ttn/naaqs/standards/pb/s_pb_cr_td.html on or before March 3, 2008.

The EPA is soliciting advice and recommendations from the CASAC AAMM Subcommittee by means of consultation at an upcoming public teleconference of the CASAC AAMM Subcommittee. A separate Federal Register notice will inform the public of the date and phone number for the public teleconference. Following the CASAC AAMM Subcommittee public teleconference, EPA will consider comments received from the CASAC AAMM Subcommittee and the public in formulating any decisions regarding proposed revisions to the lead monitoring requirements as part of the lead NAAQS rulemaking.

Dated: February 22, 2008.
Jennifer N. Edmonds,
Acting Director, Office of Air Quality Planning and Standards.

[FR Doc. E8-3935 Filed 2-28-08; 8:45 am]

BILLING CODE 6560-50-P